DEPARTMENT OF THE TREASURY

Submission for OMB Review; Comment Request

January 9, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before February 19, 2002 to be assured of consideration.

Internal Revenue Service (IRS)

OMB Number: 1545-1632.

Regulation Project Number: REG-118662-98 Final.

Type of Review: Extension.

Title: New Technologies in Retirement Plans.

Description: These regulations provide that certain notices and consents required in connection with distributions from retirement plans may be transmitted through electronic media. The regulations also modify the timing requirements for provision of certain distribution-related notices.

Respondents: Business or other for-profit, Individuals or households, Not-for-profit institutions, State, Local or Tribal Government.

Estimated Number of Respondents: 375,000.

Estimated Burden Hours Per Respondent: 1 hour, 16 minutes.

Frequency of Response: On occasion.

Estimated Total Reporting Burden: 477,563 hours.

Clearance Officer: George Freeland,Internal Revenue Service,Room 5577,1111 Constitution Avenue, NW,Washington, DC 20224.

OMB Reviewer: Alexander T. Hunt (202) 395-7860,Office of Management and Budget,Room 10202, New Executive Office Building,Washington, DC 20503.

Mary A. Able,
Departmental Reports, Management Officer.

[FR Doc. 02-1263 Filed 1-16-02; 8:45 am]

BILLING CODE 4830-01-P